NUCLEAR REGULATORY COMMISSION

10 CFR Part 50

[Docket No. PRM-50-79]

Lawrence T. Christian, et. al.; Receipt of Petition for Rulemaking; Correction

AGENCY: Nuclear Regulatory Commission.

ACTION: Petition for rulemaking; notice of receipt; correction.

SUMMARY: On November 1, 2002 (67 FR 66588), the U.S. Nuclear Regulatory Commission (NRC) published for public comment a notice of receipt of a petition for rulemaking, dated September 4, 2002, which was filed with the Commission by Lawrence T. Christian, et. al. The petition was docketed by the NRC on September 23, 2002, and has been assigned Docket No. PRM-50-79. The petition requests that the NRC amend its regulations regarding offsite emergency plans for nuclear power plants to insure that all day care centers and nursery schools in the vicinity of nuclear power facilities are properly protected in the event of a radiological emergency. This action corrects an erroneous Agencywide Documents Access and Management System (ADAMS) accession number cited for the petition under the ADDRESSES heading in the notice of receipt. This action also corrects two typographical errors in the body of the notice.

DATES: Submit comments by January 15, 2003.

FOR FURTHER INFORMATION CONTACT: Michael T. Lesar, Office of Administration, U.S. Nuclear Regulatory Commission, Washington, DC 20555-0001. Telephone: 301-415-7163 or Toll-free: 1-800-368-5642. E-mail: MTL@nrc.gov.

SUPPLEMENTARY INFORMATION: In FR Doc. 02-27861, published on November 1, 2002 (67 FR 66588), the following corrections are made.

On page 66589, in the first column, in the second full paragraph, the final sentence is corrected to read as follows:

The ADAMS accession number for the petition is ML022630462.

On page 66590, in the second column, in the sixth full paragraph, the final sentence is corrected to read as follows:

The petitioners' stated reasons for requesting that the NRC amend its rules to mandate these emergency planning measures are as follows:

On page 66591, in the first column, in the third full paragraph, the second sentence is corrected to read as follows:

Since the ingestion of KI protects against this damage, the petitioners contend that KI should be stocked by daycare centers and nursery schools in the evacuation zone for distribution to the children in their charge in case of radiological emergency.

Dated at Rockville, Maryland, this 4th day of November, 2002.
For the Nuclear Regulatory Commission.
Michael T. Lesar,
Federal Register Liaison Officer.

[FR Doc. 02-28360 Filed 11-6-02; 8:45 am]

BILLING CODE 7590-01-P